DEPARTMENT OF ENERGY

Federal Energy Regulatory Commission

[Docket No. RM95-9-011]

Open Access Same-Time Information System (OASIS) and Standards of Conduct

May 19, 2000.

AGENCY: Federal Energy Regulatory Commission, DOE.

ACTION: Notice of proposed changes.

SUMMARY: The Federal Energy Regulatory Commission (the Commission) proposes to adopt revisions to Version 1.3 of the OASIS Standards and Communication Protocols Document. The changes are being proposed to improve OASIS performance and to conform with Commission policy. The Commission invites written comments on this proposal and on four specific questions enumerated in the notice.

DATES: Written comments (an original and 14 paper copies) must be received by July 7, 2000. In addition, the Commission encourages the filing of a copy of the comments on computer diskette or by E-Mail by the same date.

ADDRESSES: Office of the Secretary, Federal Energy Regulatory Commission, 888 First Street, NE, Washington, DC 20426 and by E-Mail to “comment.rm@ferc.fed.us”.

FOR FURTHER INFORMATION CONTACT:

Marvin Rosenberg (technical information), Office of Markets, Tariffs, and Rates, Federal Energy Regulatory Commission, 888 First Street, NE, Washington, DC 20426; (202) 208-1283

Paul Robb (technical information), Office of Markets, Tariffs, and Rates, Federal Energy Regulatory Commission, 888 First Street, NE, Washington, DC 20426; (202) 219-2702

Gary D. Cohen (legal information), Office of the General Counsel, Federal Energy Regulatory Commission, 888 First Street, NE, Washington, DC 20426; (202) 208-0321

SUPPLEMENTARY INFORMATION: The full text of this notice, including the OASIS Standards and Communication Protocols, Version 1.4, is available for inspection in the Commission's Public Reference Room at 888 First Street, NE, Washington, DC 20426, during regular business hours, is posted on both the Commission's Issuance Posing System (CIPS) and the Records and Information Management System (RIMS), and may be viewed and printed remotely via the Internet through FERC's Home Page (http://www.ferc.fed.us).

Notice of Proposed Changes

I. Introduction

In this notice, the Federal Energy Regulatory Commission (Commission) proposes to revise Version 1.3 of the OASIS Standards and Communication Protocols Document (S&CP Document, Version 1.3) to reflect recommended revisions put forth by the OASIS How Working Group (How Group) and the Market Interface Committee (MIC) (collectively How/MIC) ¹ in a joint filing submitted on January 31, 2000 (January 31 submittal).

¹ As explained in Order No. 638, Open Access Same-time Information System and Standards of Conduct, Final Rule, 65 FR 17370 (March 31, 2000), FERC Stats. & Regs. ¶ at 31,398 n.2, 31,400 & n.8 (February 25, 2000), the MIC is an industry working group, sponsored by the North American Electric Reliability Council, that has taken over functions previously performed by the Commercial Practices Working Group.

The January 31 submittal was filed prior to our issuance of our “Business Practice Standards for OASIS Transactions” (BPS) in Order No. 638 and thus does not reflect our findings in that order. Accordingly, in addition to inviting comments on our proposed revisions to S&CP Document, Version 1.3, we are inviting commenters to address four specific questions (enumerated below) that are designed to insure that any revised S&CP Document we issue will be consistent with our determinations in Order No. 638.

II. Background

The Commission first issued the S&CP Document (Version 1.0) on April 24, 1996, as a separate document whose issuance accompanied issuance of Order No. 889.² We explained in Order No. 889 that we would periodically update and revise the S&CP Document as needed.³ On September 10, 1996, the Commission issued a revised S&CP Document (Version 1.1) in Open Access Same-Time Information System and Standards of Conduct, 76 FERC ¶ 61,243 (1996). On June 18, 1998, the Commission again issued a revised S&CP Document (Version 1.2) in Open Access Same-Time Information System and Standards of Conduct, 83 FERC ¶ 61,360 (1998). On September 29, 1998, the Commission issued a third revised S&CP Document (Version 1.3) in Open Access Same-Time Information System and Standards of Conduct, 84 FERC ¶ 61,329 (1998). This is the S&CP Document currently in effect.

² See Open Access Same-Time Information System and Standards of Conduct, Order No. 889, 61 FR 21737 (May 10, 1996), FERC Stats. & Regs. ¶ 31,035 at 31,586 (April 24, 1996), order on reh'g, Order No. 889-A, 62 FR 12484 (March 14, 1997), FERC Stats. & Regs. ¶ 31,049 (March 4, 1997), order on reh'g, Order No. 889-B, 81 FERC ¶ 61,253 (1997), order on reh'g, Order No. 889-C, 82 FERC ¶ 61,046 (1998).

³ Order No. 889, FERC Stats. & Regs. ¶ 31,035 at 31,591.

III. Discussion

The January 31 submittal recommends the following changes to Version 1.3 of the S&CP Document: (1) Post procedures associated with capacity benefit margin; (2) post references on curtailment information, interruptions, and system studies; (3) modifications to the TRANSREQUEST template; (4) removal of the TRANSALT, CURTAIL, and AUDIT templates; (5) addition of templates for SECURITY, REDUCTION, and SYSTEMDATA; (6) rename the SCHEDULE template as SCHEDULEDETAIL; (7) revised procedures for posting information in the TRANSOFFERING template; (8) addition of a unique reference to continuation records; (9) revisions to OASIS performance response times (section 5.3) to add specific required response times; and (10) corrections to support the above changes and update the table of contents.⁴

⁴ A more complete explanation of these recommended changes is included in the January 31 submittal.

These changes are designed to implement the Commission's findings in Order No. 605,⁵ the Commission's OASIS Audit Template Experiment, recent orders on posting capacity benefit margin (CBM), and other miscellaneous changes. We propose to adopt these changes. However, these changes, as proposed in the January 31 submittal, were not designed to implement the Commission's findings in Order No. 638, which was issued on February 25, 2000.

⁵ Open Access Same-Time Information System and Standards of Conduct, Final Rule, 64 FR 34117 (June 25, 1999), FERC Stats. & Regs. ¶ 31,075 (May 27, 1999).

We therefore have concerns that additional changes may be needed to the S&CP Document to ensure consistency between the S&CP Document and our findings in Order No. 638. Accordingly, although this notice proposes adoption of the How/MIC-sponsored revisions to the S&CP Document (as a baseline), we contemplate that our final notice on this subject may include further revisions to reflect our findings in Order No. 638. We therefore invite interested persons filing comments on this NOPR to address both the merits of the proposed revisions to the S&CP Document as well as the following:

1. If we adopt the proposed revisions to the S&CP Document, are changes needed to reflect our findings in Order No. 638?

2. Specifically, do any provisions of the proposed S&CP revisions conflict with provisions of Order No. 638? If so, how should those conflicts be resolved? ⁶

⁶ For example, this NOPR proposes modifying the TRANSQUEST template to allow Transmission Customers to request modifications to confirmed transmission reservations. Among the new types of transmission requests proposed is RENEWAL. This is intended to permit a customer to request to renew an expiring transmission reservation. Would such a request provide the existing customer rights it did not have under S&CP Document Version 1.3 or the OASIS Business Practice Standards? Does RENEWAL conflict with any OASIS Business Practice Standards or rights of first refusal under the pro forma tariff?

3. With regard to section 4.3.4.4 on System Data (Recommended S&CP Document Version 1.4 at page 55), this section states that a transmission provider is obligated to post values for one or more of the defined system attributes, but does not state that all system attributes can be requested at the same time.⁷ We therefore request comment on whether the description of the template in section 4.3.4.4 should be revised to clarify that all system attributes can be requested at the same time.

⁷ We note that: (1) More than four system attributes are listed in section 4.3.4.4; (2) the system attribute query variable in section 4.3.4.4 is followed by an asterisk; and, (3) section 4.3.2 (Recommended S&CP Document Version 1.4 at page 44) states that a variable listed with an asterisk can have at least four multiple instances defined by the user in making a query. Taken together, these provisions show that multiple system attributes may be requested in one request, even though this is not explicitly stated in section 4.3.4.4.

4. With regard to section 5.3.3 on Measurement Criteria for OASIS Node Functions (Recommended S&CP Document Version 1.4 at page 108), we see three possible problems. First, section 5.3.3, as recommended, provides performance standards (time limits) for responding to queries regarding TRANSSTATUS and TRANSOFFERING. It does not establish comparable requirements regarding response times for any other queries. We therefore invite comment on whether the proposed performance standards meet customer needs today and for the near term future.

Note: Proposed section 5.3.3 would require the following response times to OASIS queries:

Template or GUI equivalent | Average response not fewer than | 90% of responses not fewer than
transstatus | 100 rows/minute | 10 rows/minute.
transoffering | 500 rows/minute | 100 rows/minute.

Second, we also note that the recommended performance standards in section 5.3.3 are so specific that they may become obsolete and fail to keep pace with changing technology, market conditions, and user needs. We therefore invite comment on whether it would be preferable to adopt a more general performance standard, such as one that would require a node's response to be sufficient to meet the legitimate needs of its customers.

Third, we also would be open to consideration of other possible revisions to section 5.3.3 that might contain a novel approach preferable to either that proposed in this NOPR or that contained in Version 1.3.

IV. Regulatory Flexibility Act

The Regulatory Flexibility Act (RFA),⁸-⁹ requires the Commission to describe the impact a proposed rule would have on small entities or to certify that the rule, if promulgated, will not have a significant economic impact on a substantial number of small entities.

⁸-⁹ 5 U.S.C. 601-612.

If promulgated, the same entities subject to the current S&CP Document would be required to comply with the revised S&CP Document (Version 1.4) proposed in this Notice. Moreover, the proposals in this Notice would not affect which entities would be eligible for a waiver. As we explained in Order No. 889-A, under appropriate circumstances the Commission will grant waiver of the OASIS Final Rule requirements (including compliance with the S&CP Document) to small public utilities. We further explained that the Commission's waiver policy follows the SBA definition of small electric utility ¹⁰ and that 34 small entities had received waivers of the requirement to establish and maintain an OASIS and five small entities had received waivers of the OASIS Standards of Conduct requirements.¹¹ These decisions show that the Commission carefully evaluates the effect of the OASIS requirements on small electric utilities and is granting waivers where appropriate, thus mitigating the effect of that rule on small public and non-public utilities. The Commission's standards for deciding on requests for waiver are unaffected by this Notice.

¹⁰ See 5 U.S.C. 601(3) and 601(6) and 15 U.S.C. 632(a). The RFA defines a small entity as one that is independently owned and not dominant in its field of operation. See 15 U.S.C. 632(a). The Small Business Administration defines a small electric utility as one that disposes of 4 million MWh or less of electric energy in a given year. See 13 CFR 121.601 (Major Group 49—Electric, Gas and Sanitary Services).

In the Open Access Final Rule, we concluded that, under these definitions, the Open Access Final Rule and the OASIS Final Rule would not have a significant economic impact on a substantial number of small entities. We reaffirmed that conclusion in Order Nos. 888-A and 889-A.

¹¹ See Order No. 889-A, FERC Stats. & Regs. ¶ 31,049 at 30,578.

The proposed revisions to the S&CP Document are technical revisions intended to implement the Commission's findings in Order No. 605,¹² the Commission's OASIS Audit Template Experiment, recent orders on posting CBM, and other miscellaneous technical changes. We hereby certify, under section 605(b) of RFA, that this notice, if promulgated, will not have a significant economic impact on a substantial number of small entities within the meaning of RFA. Accordingly, no regulatory flexibility analysis is required pursuant to section 603 of RFA.

¹² Open Access Same-Time Information System and Standards of Conduct, Final Rule, 64 FR 34117, FERC Stats. & Regs. ¶ 31,075 (1999).

V. Environmental Statement

Commission regulations require that an environmental assessment or an environmental impact statement be prepared for a Commission action that may have a significant effect on the human environment.¹³ In the Commission's view, the environmental impact of this proposal is negligible. This proposal makes technical revisions to existing technical requirements governing the format used for OASIS postings to ensure uniformity in the display of information posted on OASIS nodes. Accordingly, we find that this notice does not propose any action that might have a significant effect on the human environment and find that no environmental impact statement concerning this proposal is required.

¹³ Regulations Implementing National Environmental Policy Act, Order No. 486, 52 FR 47897 (Dec. 17, 1987); 1986-90 Regs. Preambles FERC Stats. & Regs. ¶ 30,783 (Dec. 10, 1987) (codified at 18 CFR Part 380).

VI. Statement of Information Collection and Public Reporting Burden

In this notice, based on recommendations from two industry working groups with input from diverse industry segments, we propose minor technical revisions to Version 1.3 of the S&CP Document.

On December 1, 1998, the Commission issued a proposed information collection and request for comments in Docket No. IC99-717-000 that covered all information collected under the requirements of FERC-717 “Open Access Same-Time Information System and Standards of Conduct” (OMB No. 1902-0173) over the next three years that provides as follows:

Information Collection Statement

Title: FERC-717, Open Access Same-Time Information Systems and Standards of Conduct.

Action: Proposed Collection.

OMB Control No: 1902-0173.

Respondents: Business or other for-profit, including small business.

Frequency of Responses: On occasion.

Necessity of the Information: The Notice of Proposed Rulemaking solicits public comments on proposed revisions to Version 1.3 of the OASIS Standards and Communication Protocols Document (S&CP Document, Version 1.3) to reflect recommended revisions put forth by two industry-led working groups. These technical revisions are designed to implement the Commission's findings in Order No. 605, the Commission's OASIS Audit Template Experiment, recent orders on posting CBM, and other miscellaneous changes.

In addition, the burden estimate submitted on December 1, 1998 for all OASIS requirements was as follows:

Burden Statement: Public reporting burden for this collection is estimated as:

Number of respondents annually | Number of responses per respondent | Average burden hours per response | Total annual burden hours
(1) | (2) | (3) | (1)×(2)×(3)
140 | 1 | 1,418 | 198,520 hours

The estimated total cost to respondents is $21,157,500.¹⁴

¹⁴ The estimated total cost of $21,157,500 was computed as follows:

The Commission has assumed that 4.5 personnel are necessary for staffing and using a total personnel cost of $109,889, the result is $494,501. To get the total cost, add annual ongoing costs of $110,000 plus staffing costs [$110,000 + $494,501] for a total of $604,501 divided by 4 = $151,125. The estimated total cost of the OASIS requirement is 140 respondents × $151,125 or $21,157,500.

We are not preparing a separate estimate covering this notice only, because we find that the notice would not significantly alter the estimate contained in the December 1, 1998 notice. The December 1, 1998 burden estimate gave the Commission's estimate of OASIS-related information requirements over the next three years, and this estimate contemplated the Commission's continued use of the S&CP Document during this time frame. In any event, if a separate estimate were prepared, it would not be substantial, because the proposal in this notice, if promulgated, would not substantially increase the information collection requirements already specified in Version 1.3 of the S&CP Document.

The collection of information contained in this notice has been submitted to the Office of Management and Budget (OMB) for review under Section 3507(d) of the Paperwork Reduction Act of 1995, 44 U.S.C. 3507(d). For copies of the OMB submission, contact Michael Miller at 202-208-1415.

Internal Review

The Commission has conducted an internal review of the public reporting burden associated with this collection of information and has assured itself, by means of its internal review, that there is specific, objective support for this information burden estimate. Moreover, the Commission has reviewed the collection of information proposed by this notice and has determined that the collection of information is necessary and conforms to the Commission's plan, as described in this order, for the collection, efficient management, and use of the required information.¹⁵

¹⁵ See 44 U.S.C. 3506(c).

Based on our experience in OASIS implementation over the past four years, the Commission has refined the estimate of reporting entities covered by OASIS regulations. Our latest estimate is that 140 respondents are required to collect information under the OASIS regulations. However, as discussed above, this notice does not impose any new information collection burdens.

The Office of Management and Budget's (OMB) regulations,¹⁶ require OMB to approve certain information collection requirements imposed by agency rule. The information collection requirements in this notice will be reflected in OASIS postings that are directly available to transmission users and subject to subsequent audit by the Commission. The more efficient posting of this information will help the Commission carry out its responsibilities under Part II of the FPA.

¹⁶ 5 CFR 1320.11.

The Commission is submitting notification of this notice to OMB. Persons wishing to comment on the collections of information proposed by this notice should direct their comments to the Desk Officer for FERC, OMB, Room 10202 NEOB, Washington, DC 20503, phone 202-395-3087, facsimile 202-395-7285. Comments must be filed with OMB within 30 days of publication of this document in the Federal Register. Three copies of any comments filed with the Office of Management and Budget also should be sent to the following address: Mr. David P. Boergers, Secretary, Federal Energy Regulatory Commission, Room 1A, 888 First Street NE, Washington, DC 20426. For further information on the reporting requirements, contact Michael Miller at (202) 208-1415.

VII. Public Comment Procedure

This notice gives notice of our intention to make certain technical revisions to S&CP Document, Version 1.3. Prior to taking final action on this notice, we are inviting comments from interested persons on the proposals discussed in this notice and compiled in the OASIS Standards and Communication Protocols, Version 1.4. In addition, the Commission specifically invites comments on four specific questions enumerated in the discussion above relating to whether the proposal is consistent with our findings in Order No. 638. The Commission invites interested persons to submit written comments on the matters and issues proposed in this notice to be adopted, including any related matters or alternative proposals that commenters may wish to discuss.

The original and 14 copies of such comments must be received by the Commission by July 7, 2000. Comments should be submitted to the Office of the Secretary, Federal Energy Regulatory Commission, 888 First Street NE, Washington DC 20426 and should refer to Docket No. RM95-9-011.

In addition to filing paper copies, the Commission encourages the filing of comments either on computer diskette or via Internet E-Mail. Comments may be filed in the following formats: WordPerfect 8.0 or lower version, MS Word Office 97 or lower version, or ASCII format.

For diskette filing, include the following information on the diskette label: Docket No. RM95-9-011; the name of the filing entity; the software and version used to create the file; and the name and telephone number of a contact person.

For Internet E-Mail submittal, comments should be submitted to “comment.rm@ferc.fed.us” in the following format. On the subject line, specify Docket No. RM95-9-011. In the body of the E-Mail message, include the name of the filing entity; the software and version used to create the file, and the name and telephone number of the contact person. Attach the comment to the E-Mail in one of the formats specified above. The Commission will send an automatic acknowledgment to the sender's E-Mail address upon receipt. Questions on electronic filing should be directed to Brooks Carter by telephone at 202-501-8145 or by E-Mail (to brooks.carter@ferc.fed.us).

Commenters should take note that, until the Commission amends its rules and regulations, the paper copy of the filing remains the official copy of the document submitted. Therefore, any discrepancies between the paper filing and the electronic filing or the diskette will be resolved by reference to the paper filing.

VIII. Document Availability

All written comments will be placed in the Commission's public files and will be available for inspection in the Commission's Public Reference Room at 888 First Street NE, Washington DC 20426, during regular business hours. Additionally, comments may be viewed and printed remotely via the Internet through FERC's Home Page (http://www.ferc.fed.us) and in FERC's Public Reference Room during normal business hours (8:30 a.m. to 5 p.m. Eastern time) at 888 First Street NE, Room 2A, Washington, DC 20426.

From FERC's Home Page on the Internet, this information is available in both the Commission Issuance Posting System (CIPS) and the Records and Information Management System (RIMS).

—CIPS provides access to the texts of formal documents issued by the Commission since November 14, 1994.

—CIPS can be accessed using the CIPS link or the Energy Information Online icon. The full text of this document is available on CIPS in ASCII and WordPerfect 8.0 format for viewing, printing, and/or downloading.

—RIMS contains images of documents submitted to and issued by the Commission after November 16, 1981. Documents from November 1995 to the present can be viewed and printed from FERC's Home Page using the RIMS link or the Energy Information Online icon. Descriptions of documents back to November 16, 1981, are also available from RIMS-on-the-Web; requests for copies of these and other older documents should be submitted to the Public Reference Room.

User assistance is available for RIMS, CIPS, and the Website during normal business hours from our Help line at (202) 208-2222, or by E-Mail (to WebMaster@ferc.fed.us) or the Public Reference Room at (202) 208-1371 (E-Mail to public.referenceroom@ferc.fed.us).

During normal business hours, documents can also be viewed and/or printed in FERC's Public Reference Room, where RIMS, CIPS, and the FERC Website are available. User assistance is also available.

By direction of the Commission.
Linwood A. Watson, Jr.,
Acting Secretary.

[FR Doc. 00-13103 Filed 6-6-00; 8:45 am]

BILLING CODE 6717-01-P